DEPARTMENT OF LABOR

Employment and Training Administration

[TA-W-38,321]

International Paper, Lock Haven, Pennsylvania; Notice of Affirmative Determination Regarding Application for Reconsideration

By letter of March 14, 2001, the petitioner (a company official), requests administrative reconsideration of the Department of Labor's Negative Determination Regarding Eligibility to Apply for Worker Adjustment Assistance applicable to workers of the subject firm. The notice of negative determination was published in the Federal Register on March 2, 2001 (66 FR 13086).

The company presents new evidence regarding sales, production and employment at the subject firm.

Conclusion

After careful review of the application, I conclude that the claim is of sufficient weight to justify reconsideration of the Department of Labor's prior decision. The application is, therefore, granted.

Signed at Washington, DC this 24th day of May 2001.
Edward A. Tomchick,
Director, Division of Trade Adjustment Assistance.

[FR Doc. 01-14416 Filed 6-7-01; 8:45 am]

BILLING CODE 4510-30-M